DEPARTMENT OF HOUSING AND URBAN DEVELOPMENT

[Docket No. FR-4800-FA-9B]

Announcement of Funding Awards for Fiscal Year 2003; Historically Black Colleges and Universities Program

AGENCY: Office of the Assistant Secretary for Policy Development and Research, HUD.

ACTION: Announcement of funding awards.

SUMMARY: In accordance with section 102(a)(4)(C) of the Department of Housing and Urban Development Reform Act of 1989, this document notifies the public of funding awards for Fiscal Year 2003 Historically Black Colleges and Universities Program. The purpose of this document is to announce the names, addresses and the amount awarded to the winners to be used to help Historically Black Colleges and Universities (HBCUs) expand their role and effectiveness in addressing community development needs in their localities, consistent with the purposes of HUD's Community Development Block Grant program (CDBG).

FOR FURTHER INFORMATION CONTACT: Susan Brunson, Office of University Partnerships, U.S. Department of Housing and Urban Development, Room 8106, 451 Seventh Street, SW., Washington, DC 20410, telephone (202) 708-3061, ext. 3852. To provide service for persons who are hearing or speech impaired, this number may be reached via TTY by Dialing the Federal Information Relay Service on 800-877-8339 or 202-708-1455. (Telephone number, other than “800” TTY numbers are not toll free).

SUPPLEMENTARY INFORMATION: The Historically Black Colleges and Universities Program was enacted under section 107 of the CDBG appropriation for Fiscal Year 2003, as part of the “Veterans Administration, HUD and Independent Agencies Appropriations Act of 2003” and is administered by the Office of University Partnerships under the Assistant Secretary for Policy Development and Research. In addition to this program, the Office of University Partnerships administers HUD's ongoing grant programs to institutions of higher education as well as creates initiatives through which colleges and universities can bring their traditional missions of teaching, research, service, and outreach to bear on the pressing local problems in their communities.

The HBCU Program provides funds for a wide range of CDBG-eligible activities including housing rehabilitation and financing, property demolition or acquisition, public facilities, economic development, business entrepreneurship, and fair housing programs.

The Catalog Federal Domestic Assistance number for this program is 14.237.

On April 25, 2003, (68 FR 21111), HUD published a Notice of Funding Availability (NOFA) announcing the availability of $9.935 million ($2million of these funds are earmarked to provide technical assistances) in Fiscal Year 2003 for the HBCU Program. Of this amount, $1.4 million was available to HBCU applicants that had not been funded in the past (the maximum amount an applicant can be awarded is $340,000) and $6.6 million was available to fund HBCU applicants that had been previously funded (applicant could request $340,000 to $550,000). The Department reviewed, evaluated, and scored the applications received based on the criteria in the NOFA. As a result, HUD has funded the applications below, in accordance with section 102(a)(4)(C) of the Department of Housing and Urban Development Reform Act of 1989 (103 Stat. 1987, 42 U.S.C. 3545), the Department is publishing details concerning the recipients of funding awards, as set forth below.

List of Awardees for Grant Assistance Under the FY 2003 Historically Black Program Funding Competition, by Institution, Address, and Grant Amount

Mid-Atlantic

1. Howard University, Dr. Arthur S. Paul, Howard University, 600 West Street, NW., Washington, DC 20001. Grant: $550,000.

Southeast/Caribbean

2. LeMoyne-Owen College, Mr. Jeffrey Higgs, LeMoyne-Owen College, 802 Walker Avenue, Suite 5, Memphis, TN 38126. Grant: $550.00.

3. Florida Agricultural and Mechanical University, Dr. Patricia W. McGill, Florida Agricultural and Mechanical University, 400 Foote Hilyer, Administration Center, Tallahassee, FL 32307. Grant: $550,000.

4. Johnson C. Smith University, Mr. Steven K. Washington, Johnson C. Smith University, 100 Beatties Ford Road, Charlotte, NC 28216. Grant: $531,651.

5. Winston-Salem State University, Ms. Valerie Howard, Winston-Salem State University, 601 North Martin Luther King Jr. Drive, Winston-Salem, NC 27110. Grant: $550,000.

6. Barber-Scotia College, Ms. Joann Graham, Barber-Scotia College, 145 Cabarrus Avenue, West, Concord, NC 28025. Grant: $ 550,000.

7. Lawson State Community College, Dr. Eva Carter, Lawson State Community College, 3060 Wilson Road, SW, Birmingham, AL 35221. Grant: $550,000.

8. Claflin University, Mr. Leon Brunson, Claflin University, 400 Magnolia Street, Orangeburg, SC 29115. Grant: $550,000.

9. Voorhees College, Mr. William B. Owens, Voorhees College, P.O. Box 678, Denmark, SC 29042. Grant: $500,321.

10. Tuskegee University, Ms. Leslie V. Porter, Tuskegee University, Kresge Center, Tuskegee, AL 36088. Grant: $550,000.

11. University of the Virgin Islands, Ms. Ilene Garner, University of the Virgin Islands, #2 Brewers Bay, St. Thomas, VI 00803. Grant: $541,000.

12. Lane College, Dr. Wesley Cornelious McClure, Lane College, 545 Lane Avenue, Jackson, TN 38301. Grant: $340,000.

Southwest

13. Southern University at New Orleans, Dr. Leetta Allen-Hayes, Southern University at New Orleans, 6400 Press Drive, New Orleans, LA 70126. Grant: $550,000.

14. Texas Southern University, Ms. Ella M. Nunn, Texas Southern University, 3100 Cleburne Avenue, Houston, TX 77004. Grant: $550,000.

Dated: October 17, 2003.
Darlene F. Williams,
General Deputy Assistant Secretary for Policy Development and Research.

[FR Doc. 03-27528 Filed 10-31-03; 8:45 am]

BILLING CODE 4210-62-P